FEDERAL COMMUNICATIONS COMMISSION

[CC Docket No. 98-171, DA 00-1152]

Comment Sought on Supplemental Joint Submission of Program Administrators Regarding Consolidated Data Collection Procedures

AGENCY: Federal Communications Commission.

ACTION: Notice.

SUMMARY: On May 25, 2000, the Commission released a document seeking comment on a proposal filed jointly by the administrators of the local number portability, number administration, telecommunications relay services, and universal service support mechanisms (collectively, “the administrators”). The document seeks comment on the administrators' proposed procedures for handling the Telecommunications Reporting Worksheet (FCC Form 499). The intended effect of this action is to make the public aware of, and to seek public comment on, this proposal.

DATES: Comments are due on or before June 16, 2000, and reply comments are due on or before June 23, 2000.

FOR FURTHER INFORMATION CONTACT: Scott K. Bergmann, Industry Analysis Division, Common Carrier Bureau, at (202) 418-7102; or Jim Lande, Industry Analysis Division, Common Carrier Bureau at (202) 418-0948. The TTY number is (202) 418-0484.

SUPPLEMENTARY INFORMATION: This is a summary of a Public Notice released May 25, 2000 (DA 00-1152). The full text of the Public Notice and the administrators' joint submission are available for inspection and copying during normal business hours in the FCC Reference Center, Room CY-A257, 445 12th Street, S.W., Washington, D.C. 20554. The complete text also may be purchased from the Commission's copy contractor, International Transcription Service, Inc. (202) 857-3800, 1231 20th St., NW, Washington, D.C. 20036.

Background: On July 14, 1999, the Commission amended its rules so that telecommunications carriers and other service providers need only file one form—the Telecommunications Reporting Worksheet—for the purpose of determining their contributions to the universal service support mechanisms, the TRS Fund, and the cost recovery mechanisms for numbering administration and local number portability.¹ In that order, the Commission concluded that carriers and other filers of the new worksheet need only file one copy of the new worksheet. Accordingly, the Commission directed the administrators to file with the Bureau a summary of their proposed procedures for distributing the data obtained on the consolidated worksheet and to include a description of how related costs will be equitably apportioned.

¹ 1998 Biennial Regulatory Review—Streamlined Contributor Reporting Requirements Associated with Administration of Telecommunications Relay Services, North American Numbering Plan, Local Number Portability, and Universal Service Support Mechanisms, Report and Order, FCC 99-175, CC Docket No. 98-171, 64 FR 41320 (rel. July 14, 1999) (Contributor Reporting Requirements Order).

On October 12, 1999, the program administrators filed a joint submission addressing data collection procedures and a proposed cost allocation methodology. In a subsequent Order, released on February 4, 2000, the Bureau directed the National Exchange Carriers Association (NECA) to perform the data collection functions for the April 2000 filing of the Telecommunications Reporting Worksheet and set out procedures for the administrators to submit proposed arrangements for future filings no later than May 15, 2000.² On May 15, 2000, the administrators submitted their supplemental joint submission regarding procedures for handling the consolidated worksheet. See Supplemental Joint Submission of Program Administrators Regarding Consolidated Data Collection Procedures and Cost Allocation Methodology, CC Docket No. 98-171 (filed May 15, 2000) (Supplemental Joint Submission). Through the Public Notice summarized here, the Bureau seeks comment on the proposals contained in that joint submission.

² See 1998 Biennial Regulatory Review—Streamlined Contributor Reporting Requirements Associated with Administration of Telecommunications/Relay Services, North American Numbering Plan, Local Number Portability, and Universal Service Support Mechanisms, Order, DA 00-214, CC Docket No. 98-171 (rel. Feb. 4, 2000) (Data Collection Procedures Order).

Comment Filing Procedures: Pursuant to §§ 1.415 and 1.419 of the Commission's rules, 47 CFR 1.415, 1.419, interested parties may file comments on or before June 16, 2000, and reply comments on or before June 23, 2000. Comments may be filed using the Commission's Electronic Comment Filing System (ECFS) or by filing paper copies. See Electronic Filing of Documents in Rulemaking Proceedings, 63 FR 24,121 (1998). Comments filed through the ECFS can be sent as an electronic file via the Internet to<http://www.fcc.gov/e-file/ecfs.html>. Generally, only one copy of an electronic submission must be filed. In completing the transmittal screen, commenters should include their full name, Postal Service mailing address, and the applicable docket or rulemaking number. Parties may also submit an electronic comment by Internet e-mail. To receive filing instructions for e-mail comments, commenters should send an e-mail to ecfs@fcc.gov, and should include the following words in the body of the message, “get form <your e-mail address>”. A sample form and directions will be sent in reply. Parties who choose to file by paper must file an original and four copies of each filing. All filings must be sent to the Commission's Secretary, Magalie Roman Salas, Office of the Secretary, Federal Communications Commission, 445 12th Street, SW, Washington, DC 20554.

Pursuant to § 1.1206 of the Commission's rules, 47 CFR 1.1206, this proceeding will be conducted as a permit-but-disclose proceeding in which ex parte communications are permitted subject to disclosure.

Additional Information: The full text of the Supplemental Joint Submission is available for public inspection and copying during regular business hours at the FCC Reference Information Center, Portals II, 445 12th Street, SW, Room CY-A257, Washington, DC, 20554.

This document may also be purchased from the Commission's copy contractor, International Transcription Service, Inc. (ITS), 1231 20th Street, NW, Washington, DC 20036, telephone 202-857-3800, facsimile 202-857-3805. You may also view this document on the Commission's web site at <https://haifoss.fcc.gov/cgi-bin/ws.exe/prod/ecfs/comsrch_v2.hts>.

Federal Communications Commission.
Peyton L. Wynns,
Chief, Industry Analysis Division, Common Carrier Bureau.

[FR Doc. 00-13512 Filed 5-26-00; 8:45 am]

BILLING CODE 6712-01-U